DEPARTMENT OF COMMERCE

International Trade Administration

[C-570-911]

Circular Welded Carbon-Quality Steel Pipe From the People's Republic of China: Rescission of Countervailing Duty Administrative Review; 2013

AGENCY: Enforcement and Compliance, International Trade Administration, Department of Commerce.

SUMMARY: The Department of Commerce (the Department) is rescinding the administrative review of the countervailing duty (CVD) order on circular welded carbon-quality steel pipe (CWP) from the People's Republic of China (PRC) for the period January 1, 2013, through December 31, 2013.

DATES: Effective Date: March 18, 2015.

FOR FURTHER INFORMATION CONTACT: Mary Kolberg, AD/CVD Operations, Office I, Enforcement and Compliance, International Trade Administration, U.S. Department of Commerce, 14th Street and Constitution Avenue NW., Washington, DC 20230; telephone: (202) 482-1785.

Background

On August 29, 2014, the Department initiated an administrative review of the CVD order on CWP from the PRC with respect to Baoshan Iron & Steel Co., Ltd., Beijing Jia Mei AO Trade Co., Ltd., Beijing Jinghua Global Trading Co., Benxi Northern Steel Pipes, Co. Ltd., CNOOC Kingland Pipeline Co., Ltd., ETCO (China) International Trading Co., Ltd., Guangzhou Juyi Steel Pipe Co., Ltd., Huludao City Steel Pipe Industrial, Jiangsu Changbao Steel Tube Co., Ltd., Jiangsu Yulong Steel Pipe Co., Ltd., Liaoning Northern Steel Pipe Co., Ltd., Pangang Chengdu Group Iron & Steel Co., Ltd., Shanghai Zhongyou TIPO Steel Pipe Co., Ltd., Tianjin Haoyou Industry Trade Co., Tianjin Longshenghua Import & Export, Tianjin Shuangjie Steel Pipe Co., Ltd., Weifang East Steel Pipe Co., Ltd., WISCO & CRM Wuhan Materials & Trade., and Zhejiang Kingland Pipeline Industry Co., Ltd., covering the period January 1, 2013, through December 31, 2013, based on a request by Wheatland Tube Company (hereinafter, the petitioner).¹ On November 21, 2014, the petitioner timely withdrew its request for an administrative review of the above-listed companies.² No other party requested a review.

¹ See Initiation of Antidumping and Countervailing Duty Administrative Reviews, 79 FR 51548 (August 29, 2014); see also Letter from petitioner, Re: “Circular Welded Carbon Quality Steel Pipe From The People's Republic of China: Request For Administrative Review” (July 31, 2014).

² See Letter from petitioner, Re: “Circular Welded Carbon Quality Steel Pipe From The People's Republic of China: Withdrawal of Request For Administrative Review” (November 21, 2014).

Rescission of Review

Pursuant to 19 CFR 351.213(d)(1), the Department will rescind an administrative review, in whole or in part, if the party that requested the review withdraws its request within 90 days of the publication of the notice of initiation of the requested review. In this case, the petitioner withdrew its request within the 90-day deadline, and no other party requested an administrative review of the CVD order. Therefore, in accordance with 19 CFR 351.213(d)(1), we are rescinding the administrative review of CWP from the PRC covering the period January 1, 2013, through December 31, 2013, in its entirety.

Assessment

The Department will instruct U.S. Customs and Border Protection (CBP) to assess CVDs on all entries of CWP from the PRC made during the period of review at rates equal to the cash deposit of estimated CVDs required at the time of entry, or withdrawal from warehouse, for consumption, in accordance with 19 CFR 351.212(c)(1)(i). The Department intends to issue appropriate assessment instructions to CBP 15 days after the date of publication of this notice in the Federal Register.

Notifications

This notice serves as a final reminder to parties subject to administrative protective order (APO) of their responsibility concerning the return or destruction of proprietary information disclosed under APO in accordance with 19 CFR 351.305(a)(3). Timely written notification of the return or destruction of APO materials, or conversion to judicial protective order, is hereby requested. Failure to comply with the regulations and terms of an APO is a violation that is subject to sanction.

This notice is issued and published in accordance with sections 751(a)(1) and 777(i)(1) of the Tariff Act of 1930, as amended, and 19 CFR 351.213(d)(4).

Dated: March 11, 2015.
Christian Marsh,
Deputy Assistant Secretary for Antidumping and Countervailing Duty Operations.

[FR Doc. 2015-06237 Filed 3-17-15; 8:45 am]

BILLING CODE 3510-DS-P